FEDERAL COMMUNICATIONS COMMISSION

Revised Sunshine Notice To Open Commission Meeting, Thursday, October 22, 2009

October 16, 2009.

The FCC Sunshine Notice dated 10-15-09 inadvertently failed to include the following language: The Commission waives the Sunshine Period Prohibition on ex parte contacts with the Commission to the extent that those contacts are made through the Open Internet Blog, http://blog.openinternet.gov. Such contacts take place in a forum that is both instantaneously available to all interested parties and will not intrude on the Commission's decision making.

The Federal Communications Commission will hold an Open Meeting on the subject listed below on Thursday, October 22, 2009, which is scheduled to commence at 10:00 a.m. in Room TW-C305, at 445 12th Street, S.W., Washington, D.C.

Item No. | Bureau | Subject
| WIRELINE COMPETITION & WIRELESS TELE-COMMUNICATIONS | TITLE: Preserving the Open Internet; Broadband Industry Practices (WC Docket No. 07-52) SUMMARY: The Commission will consider a Notice of Proposed Rulemaking on policies to preserve the open Internet.

Additional information concerning this meeting may be obtained from Audrey Spivack or David Fiske, Office of Media Relations, (202) 418-0500; TTY 1-888-835-5322. Audio/Video coverage of the meeting will be broadcast live with open captioning over the Internet from the FCC's Audio/Video Events web page at www.fcc.gov/live.

Federal Communications Commission.
Marlene H. Dortch,
Secretary.

[FR Doc. E9-25397 Filed 10-19-09; 11:15 am]

BILLING CODE 6712-01-S